DEPARTMENT OF HEALTH AND HUMAN SERVICES

Centers for Disease Control and Prevention

[30Day-06-05AL]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-4766 or send an e-mail to omb@cdc.gov. Send written comments to CDC Desk Officer, Office of Management and Budget, Washington, DC or by fax to (202) 395-6974. Written comments should be received within 30 days of this notice.

Proposed Project

Evaluation and Assessment of the Effectiveness of Activities Supporting Fire Prevention and Safety—New—The National Center for Injury Prevention and Control (NCIPC), Centers for Disease Control and Prevention (CDC).

Background and Brief Description

This project will evaluate the effectiveness of fire safety and prevention education for second grade children and identify program components that contribute to successful outcomes. The fire safety prevention education programs are delivered by fire department personnel and funded by the United States Fire Administration's (USFA) Assistance to Firefighters Grant Program (AFGP). Deaths from fires and burns are the sixth most common cause of unintentional injury-related deaths in the United States with over three fourths of fire-related deaths and three fourths of fire-related injuries the result of house fires. Children are particularly at high risk for injury with residential fire deaths rates approximately two times that of adult age groups. The prevention programs that are funded by AFGP provide local fire departments with resources to conduct fire safety education for elementary school children. None of these programs has been systematically evaluated to determine impact on fire safety knowledge, skills, and behaviors. The proposed project does not assume a direct link from knowledge, skills, and behaviors to reductions in fire death rates; however, these intermediate outcomes may predispose and enable children to protect themselves from fire-related injury.

Children's knowledge, skills, and behaviors will be studied as a function of time (pre-, immediate post-, and 6 month post-intervention), geographic setting (urban, rural, and suburban) and instructional format (classroom, safety trailer, and classroom + safety trailer). The design used in this study is a 3 × 4 factorial design with repeated measures. A survey will be used to assess children's fire safety knowledge, skills, and behaviors. Information will be also collected from the children's parents on fire safety activities within the home.

Teachers, school administrators, and the fire fighters delivering the program will complete surveys to gather information on messages delivered, props used, and possible additional exposures to fire safety education. Information will also be collected regarding the school and fire department personnel's perceptions about program sustainability and the relationship between the fire department and school. The only cost to the respondents is the time involved to complete the survey. The estimated total burden hours are 3276.

Estimate of Annualized Burden Table
Type of respondents | Number of respondents | Number of responses/respondent | Average burden/response (in hours)
Fire Fighters | 24 | 2 | 15/60
2nd Grade Children | 2400 | 3 | 20/60
Parents of 2nd Grade Children | 2400 | 2 | 10/60
Teachers of 2nd Grade Children | 96 | 2 | 15/60
School Administrators | 48 | 1 | 20/60

Dated: February 1, 2006.
Betsey Dunaway,
Acting Reports Clearance Officer, Centers for Disease Control and Prevention.

[FR Doc. E6-1692 Filed 2-7-06; 8:45 am]

BILLING CODE 4163-18-P